DEPARTMENT OF TRANSPORTATION

Federal Aviation Administration

14 CFR Part 71

[Docket No. FAA-2002-13013; Airspace Docket No. 02-ANM-10]

RIN 2120-AA66

Revision of Legal Descriptions of Multiple Federal Airways in the Vicinity of Farmington, NM

AGENCY: Federal Aviation Administration (FAA), DOT.

ACTION: Final rule.

SUMMARY: This action amends the legal descriptions of eight Federal airways and seven jet routes that have the “Farmington, NM, very high frequency omnidirectional range/tactical air navigation (VORTAC)” included as part of their route structure. Currently, the Farmington VORTAC and the Four Corners Regional Airport, NM, share the same location identifier. The fact that the VORTAC and the airport are not co-located has led to confusion among users. To eliminate this confusion, the Farmington VORTAC will be renamed the “Rattlesnake VORTAC.” All airways with “Farmington VORTAC” included in their legal descriptions will be amended, concurrent with the effective date of this final rule, to reflect the name change.

EFFECTIVE DATE: 0901 UTC, October 30, 2003.

FOR FURTHER INFORMATION CONTACT: Ken McElroy, Airspace and Rules Division, ATA-400, Office of Air Traffic Airspace Management, Federal Aviation Administration, 800 Independence Avenue, SW., Washington, DC 20591; telephone: (202) 267-8783.

SUPPLEMENTARY INFORMATION:

The Rule

This action amends Title 14 Code of Federal Regulations (14 CFR) part 71 (part 71) by amending the legal descriptions of eight Federal airways and seven jet routes that have “Farmington VORTAC” included as part of their route structure. Currently, the Farmington, NM, VORTAC and the Four Corners Regional Airport, NM, share the same location identifier. The fact that the VORTAC and the airport are not co-located has led to confusion among users. To eliminate this confusion, the Farmington VORTAC will be renamed the “Rattlesnake VORTAC.” All airways with “Farmington VORTAC” included in their legal descriptions will be amended to reflect the name change. The name change of the VORTAC will coincide with the effective date of this rulemaking action.

Since this action merely involves editorial changes in the legal description of eight Federal airways and seven jet routes, and does not involve a change in the dimensions or operating requirements of that airspace, notice and public procedure under 5 U.S.C. 553(b) are unnecessary.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act.

Jet routes and domestic VOR Federal airways are published in paragraphs 2004 and 6010(a), respectively, of FAA Order 7400.9J, dated August 31, 2001, and effective September 16, 2001, which is incorporated by reference in 14 CFR 71.1. The jet routes and airways listed in this document will be published subsequently in the order.

Environmental Review

There are no changes to the lateral limits. Therefore, the FAA has determined that this action is not subject to environmental assessments and procedures in accordance with FAA Order 1050.1D, Policies and Procedures for Considering Environmental Impacts, and the National Environmental Policy Act.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9J, Airspace Designations and Reporting Points, dated August 31, 2001, and effective September 16, 2001, is amended as follows:

Paragraph 6010(a)—Domestic VOR Federal Airways

* * * * *

J-10 [Revised]

From Los Angeles, CA; via INT Los Angeles 083° and Twentynine Palms, CA, 269° radials; Twentynine Palms; INT of Twentynine Palms 075° and Drake, AZ, 262° radials; Drake; Rattlesnake, NM, Blue Mesa, CO; Falcon, CO; North Platte, NE; Wolbach, NE; Des Moines, IA; to Iowa City, IA.

* * * * *

J-15 [Revised]

From Humble, TX, via INT Humble 269° and Junction, TX, 112° radials; Junction; Wink, TX; Chisum, NM; Corona, NM; Albuquerque, NM; Rattlesnake, NM; Grand Junction, CO; Wasatch, UT; Twin Falls, ID; Boise, ID; Kimberly, OR; INT Kimberly 288° and Battle Ground, WA, 136° radials; to Battle Ground.

* * * * *

J-44 [Revised]

From Phoenix, AZ; via Winslow, AZ, Rattlesnake, NM; Alamosa, CO; INT Alamosa 015° and Falcon, CO, 209° radials; Falcon; McCook, NE; to Lincoln, NE.

* * * * *

J-58 [Revised]

From Oakland, CA, via Manteca, CA; Coaldale, NV; Wilson Creek, NV; Milford, UT; Rattlesnake, NM; Las Vegas, NM; Panhandle, TX; Wichita Falls, TX; Ranger, TX; Alexandria, LA; Harvey, LA.

* * * * *

J-64 [Revised]

From Los Angeles, CA, via INT Los Angeles 083° and Hector, CA, 226° radials; Hector; Peach Springs, AZ; Tuba City, AZ; Rattlesnake, NM; Pueblo, CO; Hill City, KS; Pawnee City, NE; Lamoni, IA; Bradford, IL; via the INT of the Bradford 089° and the Fort Wayne, IN, 280° radials; Fort Wayne; Ellwood City, PA; Ravine, PA; to Robbinsville, NJ.

* * * * *

J-110 [Revised]

From Oakland, CA, via Salinas, CA; Clovis, CA; Boulder City, NV; Rattlesnake, NM; Alamosa, CO; Garden City, KS; Butler, MO; St. Louis, MO; Brickyard, IN; Bellaire, OH; to Coyle, NJ.

* * * * *

J-161 [Revised]

From Zuni, NM, to Rattlesnake, NM.

* * * * *

V-68 [Revised]

From Montrose, CO; Cones, CO; Dove Creek, CO; Cortez, CO; Rattlesnake, NM; INT Rattlesnake 128° and Albuquerque, NM, 345° radials; Albuquerque, via INT Albuquerque 120° and Corona, NM, 311° radials; Corona; 41 miles 85 MSL, Chisum, NM; Hobbs, NM; Midland, TX; San Angelo, TX; Junction, TX; Center Point, TX; San Antonio, TX; INT San Antonio 064° and Industry, TX, 267° radials; Industry; INT Industry 101° and Hobby, TX, 290° radials to Hobby.

* * * * *

V-95 [Revised]

From Gila Bend, AZ, via INT Gila Bend 096° and Phoenix, AZ, 197° radials; Phoenix; 49 miles, 40 miles 95 MSL; Winslow, AZ; 66 miles, 39 miles 125 MSL; Rattlesnake, NM; Durango, CO; Blue Mesa, CO; INT Blue Mesa 081° and Falcon, CO, 208° radials; to Falcon.

* * * * *

V-187 [Revised]

From Socorro, NM, via INT Socorro 015° and Albuquerque, NM, 160° radials; Albuquerque; Rattlesnake, NM; 50 miles, 62 miles, 115 MSL, Grand Junction, CO; 75 miles, 50 miles, 112 MSL, Rock Springs, WY; 20 miles, 37 miles, 95 MSL, INT Rock Springs 026° and Riverton, WY, 180° radials; Riverton; Boysen Reservoir, WY; 9 miles, 78 miles, 105 MSL, Billings, MT; INT Billings 317° and Great Falls, MT, 122° radials; Great Falls; Missoula, MT; Nez Perce, ID; Pasco, WA; INT Pasco 32l° and Ellensburg, WA, 107° radials; Ellensburg; INT Ellensburg 274° and McChord, WA, 096° radials; McChord; INT McChord 275° and Olympia, WA, 031° radials; Olympia; to Astoria, OR.

* * * * *

V-210 [Revised]

From Los Angeles, CA, INT Los Angeles 083° and Pomona, CA, 240° radials; Pomona; INT Daggett, CA, 229° and Hector, CA, 263° radials; Hector; Goffs, CA; 13 miles, 23 miles 71 MSL, 85 MSL, Peach Springs, AZ; Grand Canyon, AZ; Tuba City, AZ; 10 miles 90 MSL, 91 miles 105 MSL, Rattlesnake, NM; Alamosa, CO; INT Alamosa 074° and Lamar, CO, 250° radials; 40 miles, 51 miles, 65 MSL, Lamar; 13 miles, 79 miles, 55 MSL, Liberal, KS; INT Liberal 137° and Will Rogers, OK, 284° radials; Will Rogers; INT Will Rogers 113° and Okmulgee, OK, 238° radials; Okmulgee. From Brickyard, IN, Muncie, IN; Rosewood, OH; Tiverton, OH; Briggs, OH; INT Briggs 044° and Akron, OH, 088° radials; INT Akron 088° and Youngstown, OH, 116° radials; INT Youngstown 116° and Clarion, PA, 222° radials; Revloc, PA; INT Revloc 096° and Harrisburg, PA, 285° radials; Harrisburg; Lancaster, PA; INT Lancaster 095° and Yardley, PA, 255° radials; to Yardley.

* * * * *

V-361 [Revised]

From Rattlesnake, NM, via Montrose, CO; INT Montrose 025° and Red Table, CO, 224° radials; Red Table; Kremmling, CO; via INT Kremmling 059° and Cheyenne, WY, 216° radials; to Cheyenne.

* * * * *

V-368 [Revised]

From Alamosa, CO; INT Rattlesnake, NM, 086° and Alamosa 232° radials; to Rattlesnake, NM.

* * * * *

V-391 [Revised]

From Rattlesnake, NM; via Cortez, CO; via Dove Creek, CO; via Grand Junction, CO; via Vernal, UT; to Rock Springs, WY.

* * * * *

V-421 [Revised]

From Zuni, NM, via Gallup, NM; Rattlesnake, NM; Durango, CO; Blue Mesa, CO; Red Table, CO; Kremmling, CO; Robert, CO; INT Robert 340° and Hayden, CO, 055° radials.

* * * * *

Issued in Washington, DC, July 10, 2003.
Paul Gallant,
Acting Manager, Airspace and Rules Division

[FR Doc. 03-18382 Filed 7-18-03; 8:45 am]

BILLING CODE 4910-13-P